DEPARTMENT OF DEFENSE

Office of the Secretary

[Docket ID DoD-2015-OS-0094]

Proposed Collection; Comment Request

AGENCY: Office of the Under Secretary of Defense (Personnel and Readiness), DoD.

ACTION: Notice.

SUMMARY: In compliance with the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 14, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Under Secretary of Defense (Personnel and Readiness), ATTN: Lieutenant Colonel Ronald S. Hunter, 4000 Defense Pentagon, Washington, DC 20301-4000, or call at (703) 695-3176.

SUPPLEMENTARY INFORMATION:

Title; Associated Form; and OMB Number: Survivor Benefit Plan (SBP)/Reserve Component (RC) SBP Request for Deemed Election; DD Form 2656-10, OMB Control Number 0704-0448.

Needs and Uses: The information collection requirement is necessary to properly identify the former spouse who is eligible to request a deemed SBP election on behalf of the member. Since a Uniformed Services member may have more than one former spouse, the requested information will serve to identify the correct former spouse.

Affected Public: Individuals or Households.

Annual Burden Hours: 400.

Number of Respondents: 1,200.

Responses per Respondent: 1.

Annual Responses: 1,200.

Average Burden per Response: 20 minutes.

Frequency: On occasion.

A former spouse who has been awarded coverage under the Survivor Benefit Plan either by court order or written agreement, may, within one year of such court order or written agreement, submit a request to have an election for such coverage deemed on behalf of the member. Such requests will be made by submitting the proposed form and a copy of the court order, regular on its face, which requires such election or incorporates, ratifies, or approves the written agreement of such person; or a statement from the clerk of the court (or other appropriate official) that such agreement has been filed with the court in accordance with applicable state law. A former spouse is not required to submit a request for a deemed election. However, if a request for deemed election is not submitted within the one year period described above and the members fail to elect former spouse SBP coverage, no former spouse coverage will be provided. The proposed form DD Form 2656-10, “Survivor Benefit Plan (SBP)/Reserve Component (RC) SBP Request for Deemed Election,” will become the prescribed form required for submitting such requests.

Dated: October 6, 2015.
Aaron Siegel,
Alternate OSD Federal Register Liaison Officer, Department of Defense.

[FR Doc. 2015-25849 Filed 10-9-15; 8:45 am]

BILLING CODE 5001-06-P